FEDERAL MARITIME COMMISSION

Ocean Transportation Intermediary License Reissuances

The Commission gives notice that the following Ocean Transportation Intermediary licenses have been reissued pursuant to section 19 of the Shipping Act of 1984 (46 U.S.C. 40101) effective on the date shown.

License No.: 017697N.

Name: IREH Logistic Services Inc.

Address: 488 E. Ocean Blvd., Suite 702, Long Beach, CA 90802.

Date Reissued: December 27, 2012.

License No.: 017719NF.

Name: Sunjin Shipping (U.S.A.), Inc.

Address: 149-15 177th Street, Jamaica, NY 11434.

Date Reissued: January 6, 2013.

License No.: 018732N.

Name: Transways Logistics International Inc.

Address: 149-23 182nd Street, Suite 101, Jamaica, NY 11413.

Date Reissued: January 25, 2013.

License No.: 022246N.

Name: Pelham Services, Inc.

Address: 5413 NW. 72nd Avenue, Miami, FL 33166.

Date Reissued: December 23, 2012.

Vern W. Hill,
Director, Bureau of Certification and Licensing.

[FR Doc. 2013-04593 Filed 2-26-13; 8:45 am]

BILLING CODE 6730-01-P